ENVIRONMENTAL PROTECTION AGENCY

[FRL-8206-5]

Science Advisory Board Staff Office; Advisory Council on Clean Air Compliance Analysis; Notification of a Public Advisory Committee Meeting; (Teleconference)

AGENCY: Environmental Protection Agency (EPA).

ACTION: Notice.

SUMMARY: The Environmental Protection Agency (EPA or Agency), Science Advisory Board (SAB) Staff Office announces a public teleconference of the Advisory Council on Clean Air Compliance Analysis and its Air Quality Modeling Subcommittee.

DATES: The teleconference will take place on August 31, 2006 from 1 p.m. to 4 p.m. (Eastern Time).

FOR FURTHER INFORMATION: Any member of the public who wishes to obtain the teleconference call-numbers and access codes or who wishes to submit a written or a brief oral statement (five minutes or less), must contact Dr. Holly Stallworth, Designated Federal Officer (DFO), EPA Science Advisory Board (1400F), U.S. Environmental Protection Agency, 1200 Pennsylvania Avenue, NW., Washington, DC 20460; telephone/voice mail: (202) 343-9867. Requests to provide oral comments must be in writing (e-mail, fax or mail) and received by Dr. Stallworth no later than five business days prior to the teleconference in order to reserve time on the meeting agenda. It is the policy of the EPA Science Advisory Board Staff Office to accept written public comments of any length, and to accommodate oral public comments whenever possible.

The technical contact for this review is Dr. Linda Chappell, Economist in the Office of Air and Radiation's Air Quality Analysis Division. Dr. Chappell may be reached at 919-541-2864 or chappell.linda@epa.gov.

SUPPLEMENTARY INFORMATION: Background: The Advisory Council on Clean Air Compliance Analysis (Council) is a Federal advisory committee chartered under the Federal Advisory Committee Act (FACA), as amended, 5 U.S.C., App. The Council is charged with providing advice, information and recommendations to the Agency on the economic issues associated with programs implemented under the Clean Air Act and its Amendments. Pursuant to a requirement under section 812 of the 1990 Clean Air Act Amendments, EPA's Office of Air and Radiation (OAR) conducts periodic studies to assess the benefits and the costs of the Clean Air Act. The Council has been the chief reviewing body for these studies and has issued advice on a retrospective study issued in 1997, a prospective study issued in 1999, and, since 2003, analytic blueprints for a second prospective study on the costs and benefits of clean air programs covering the years 1990—2020.

EPA's Office of Air and Radiation is conducting a regulatory impact analysis to support a final regulation for the National Ambient Air Quality Standards on particulate matter. As part of this effort, EPA is requesting the Council to provide advice regarding an interim method for estimating future air emissions. In response to this request, the Council will conduct a consultation on this topic. Background document(s) for this review will be posted on the OAR Web site at: http://www.epa.gov/ttn/ecas/articles.html. For additional technical information, Dr. Chappell may be contacted at the e-mail and phone number noted above. The meeting agenda and any other background materials will be posted on the SAB Web site at: http://www.epa.gov/sab/ prior to the meeting.

Procedures for Providing Public Input: Members of the public may submit relevant written or oral information for the SAB Panel to consider during the advisory process. Oral Statements: In general, individuals or groups requesting an oral presentation at a public teleconference will be limited to three minutes per speaker with no more than a total of fifteen minutes for all speakers. Interested parties should contact the DFO, contact information provided above, in writing via e-mail at least seven days before the teleconference in order to be places on the public speaker list.

Dated: August 1, 2006.
Anthony F. Maciorowski,
Associate Director for Science, EPA Science Advisory Board Staff Office.

[FR Doc. E6-12759 Filed 8-4-06; 8:45 am]

BILLING CODE 6560-50-P